TENNESSEE VALLEY AUTHORITY

Agency Information Collection Activities: Proposed Collection; Comment Request

AGENCY: Tennessee Valley Authority.

ACTION: 30-Day notice of submission of information collection approval and request for comments.

SUMMARY: This is a renewal request for approval of the Application for Section 26a Permit (OMB No. 3316-0060). The information collection described below will be submitted to the Office of Management and Budget (OMB) at, oira_submission@omb.eop.gov, for review, as required by the Paperwork Reduction Act of 1995. The Tennessee Valley Authority is soliciting public comments on this proposed collection.

DATES: Comments should be sent to the TVA Senior Privacy Program Manager and the OMB Office of Information & Regulatory Affairs, Attention: Desk Officer for Tennessee Valley Authority, Washington, DC 20503, or email: oira_submission@omb.eop.gov, no later than June 5, 2019.

ADDRESSES: Requests for information, including copies of the information collection proposed and supporting documentation, should be directed to the Senior Privacy Program Manager: Christopher A. Marsalis, Tennessee Valley Authority, 400 W. Summit Hill Dr. (WT 5D), Knoxville, Tennessee 37902-1401; telephone (865) 632-2467 or by email at camarsalis@tva.gov.

SUPPLEMENTARY INFORMATION: Type of Request: Revision of a currently approved collection.

Title of Information Collection: Section 26a Permit Application.

OMB Approval Number: 3316-0060.

Current Expiration Date: August 31, 2019.

Frequency of Use: On occasion.

Type of Affected Public: Individuals or households, state or local governments, farms, businesses, or other for-profit, Federal agencies or employees, non-profit institutions, small businesses or organizations.

Small Businesses or Organizations Affected: Yes.

Federal Budget Functional Category Code: 452.

Estimated Number of Annual Responses: 2,600.

Estimated Total Annual Burden Hours: 5,200.

Estimated Average Burden Hours per Response: 2.0.

Need For and Use of Information: TVA Land Management activities and Section 26a of the Tennessee Valley Authority Act of 1933, as amended, require TVA to collect information relevant to projects that will impact TVA land and land rights and review and approve plans for the construction, operation, and maintenance of any dam, appurtenant works, or other obstruction affecting navigation, flood control, or public lands or reservations across, along, or in the Tennessee River or any of its tributaries. The information is collected via paper forms (e.g., Joint Application Form (TVA Form 17423), Section 26a Permit and Land Use Application: Applicant Disclosure Form (TVA Form 17423A), and Tennessee Valley Authority Floating Cabin Registration Form (TVA Form 21158)) and/or electronic submissions and is used to assess the impact of the proposed project on TVA land or land rights and statutory TVA programs to determine if the project can be approved. Rules for implementation of TVA's Section 26a responsibilities are published in 18 CFR part 1304.

Andrea S. Brackett,
Director, TVA Cybersecurity.

[FR Doc. 2019-09153 Filed 5-3-19; 8:45 am]

BILLING CODE 8120-01-P